DEPARTMENT OF JUSTICE

Parole Commission

Public Announcement; Pursuant to the Government in the Sunshine Act; (Pub. L. 94-409) [5 U.S.C. Section 552b]

Agency Holding Meeting: Department of Justice, United States Parole Commission.

Date and Time: 11:30 p.m., Thursday, May 6, 2010.

Place: U.S. Parole Commission, 5550 Friendship Boulevard 4th Floor, Chevy Chase, Maryland 20815.

Status: Closed.

Matters Considered: The following matter will be considered during the closed meeting: Consideration of two original jurisdiction cases pursuant to 28 CFR 2.27.

Agency Contact: Patricia W. Moore, Staff Assistant to the Chairman, United States Parole Commission, (301) 492-5933.

Dated: April 27, 2010.
Rockne Chickinell,
General Counsel, U.S. Parole Commission.

[FR Doc. 2010-10437 Filed 5-5-10; 8:45 am]

BILLING CODE 4410-31-M